ENVIRONMENTAL PROTECTION AGENCY

[CERCLA-04-2024-7001, FRL-11528-01-R4]

U.S. Finishing, LLC and Cone Mills Corporation Superfund Site, Greenville, South Carolina; Proposed Settlements

AGENCY: Environmental Protection Agency (EPA).

ACTION: Notice of proposed settlement.

SUMMARY: Under the Comprehensive Environmental Response, Compensation and Liability Act (CERCLA), the United States Environmental Protection Agency is proposing to enter into an Administrative Settlement Agreement for Remedial Design/Remedial Action by Prospective Purchaser with Cone Mills Acquisition Group, LLC, concerning the U.S. Finishing, LLC and Cone Mills Corporation Superfund Site. The settlement agreement addresses a Remedial Design/Remedial Action to be performed at the site by Cone Mills Acquisition Group, LLC, a Prospective Purchaser.

DATES: The Agency will consider public comments on the proposed settlement until December 4, 2023. The Agency will consider all comments received and may modify or withdraw its consent to the proposed settlements if comments received disclose facts or considerations which indicate that the proposed settlement is inappropriate, improper, or inadequate.

ADDRESSES: Copies of the proposed settlements are available from the Agency by contacting Ms. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at 404/562-8887.

Maurice Horsey,
Branch Manager, Enforcement Branch, Superfund & Emergency Management Division.

[FR Doc. 2023-24204 Filed 11-1-23; 8:45 am]

BILLING CODE 6560-50-P